DEPARTMENT OF COMMERCE

National Oceanic and Atmospheric Administration

50 CFR Parts 600 and 660

[Docket No. 020904208 2208-01; I.D. 082702B]

RIN 0648-AP85

Magnuson-Stevens Act Provisions; Fisheries Off West Coast States and in the Western Pacific; Pacific Coast Groundfish Fishery; Groundfish Fishery Management Measures; Corrections

AGENCY: National Marine Fisheries Service (NMFS), National Oceanic and Atmospheric Administration (NOAA), Commerce.

ACTION: Correction to emergency rule latitude/longitude coordinates for the Darkblotched Rockfish Conservation Area (DBCA) in the Pacific Coast groundfish fishery.

SUMMARY: This document contains corrections to DBCA latitude/longitude coordinates implemented by emergency rulemaking in the Pacific Coast groundfish fishery and published on September 13, 2002.

DATES: Effective September 10, 2002, through March 12, 2003.

FOR FURTHER INFORMATION CONTACT: Carrie Nordeen (Northwest Region, NMFS); phone: 206-526-6140; fax: 206-526-6736; e-mail: carrie.nordeen@noaa.gov,.

SUPPLEMENTARY INFORMATION: An emergency rule was recommended by the Pacific Fishery Management Council (Pacific Council) in consultation with Pacific Coast Treaty Tribes and the States of Washington, Oregon, and California at its June 17 - 21, 2002, meeting in Foster City, California. This emergency rule established the DBCA to protect darkblotched rockfish, an overfished species, while allowing limited entry trawl harvest of healthy groundfish stocks outside of the DBCA. The specifications and management measures for the current fishing year (January 1 - December 31, 2002) were initially published in the Federal Register as an emergency rule for January 1 - February 28, 2002 (67 FR 1540, January 11, 2002), and as a proposed rule for all of 2002 (67 FR 1555, January 11, 2002), then finalized effective March 1, 2002 (67 FR 10490, March 7, 2002). The final rule was subsequently amended at 67 FR 15338, April 1, 2002, at 67 FR 18117, April 15, 2002, at 67 FR 30604, May 7, 2002, at 67 FR 40870, June 14, 2002, at 67 FR 44778, July 5, 2002, at 67 FR 48571, July 25, 2002, at 67 FR 50835, August 6, 2002, at 67 FR 55166, August, 28, 2002, and at 67 FR 57973, September 13, 2002.

The new emergency rule in the Pacific Coast groundfish fishery (67 FR 57973, September 13, 2002) published latitude/longitude coordinates for the DBCA in the hundredths of a degree instead of in degrees and minutes. For consistency sake and at the request of the United States Coast Guard, this document re-publishes latitude/longitude coordinates for the DBCA in degrees and minutes.

Corrections

In the FR Doc. 02-23383 in the issue of Friday, September 13, 2002 (67 FR 57973) make the following corrections:

1. On pages 57975 - 57976, section IV (A) (22) is corrected to read as follows:

(22) Darkblotched Rockfish Conservation Area. There is hereby established a Darkblotched Rockfish Conservation Area (DBCA). The DBCA extends south from the U.S./Canada border (48°30' N. lat.) to 40°10' N. lat. The DBCA is defined along its eastern boundary by straight lines connecting all of the following points in the order stated:

48°14.00' N. lat., 125°36.00' W. long.;

48°8.00' N. lat., 125°38.00' W. long.;

47°57.00' N. lat., 125°30.00' W. long.;

48°20.00' N. lat., 125°18.00' W. long.;

48°20.00' N. lat., 125°3.00' W. long.;

48°23.00' N. lat., 124°50.00' W. long.;

48°17.00' N. lat., 124°56.50' W. long.;

48°6.00' N. lat., 125°0.00' W. long.;

48°9.00' N. lat., 125°18.00' W. long.;

48°6.00' N. lat., 125°18.00' W. long.;

47°59.00' N. lat., 125°16.00' W. long.;

47°49.00' N. lat., 125°3.00' W. long.;

47°42.00' N. lat., 125°4.50' W. long.;

47°31.00' N. lat., 124°54.00' W. long.;

47°24.00' N. lat., 124°46.00' W. long.;

47°18.50' N. lat., 124°45.00' W. long.;

47°8.50' N. lat., 124°56.00' W. long.;

47°0.50' N. lat., 124°54.50' W. long.;

47°1.00' N. lat., 124°58.50' W. long.;

46°57.00' N. lat., 124°54.50' W. long.;

47°0.00' N. lat., 124°49.00' W. long.;

46°54.00' N. lat., 124°48.00' W. long.;

46°54.50' N. lat., 124°52.50' W. long.;

46°41.50' N. lat., 124°43.00' W. long.;

46°34.50' N. lat., 124°28.50' W. long.;

46°29.00' N. lat., 124°30.00' W. long.;

46°20.00' N. lat., 124°36.50' W. long.;

46°18.00' N. lat., 124°38.00' W. long.;

46°17.00' N. lat., 124°35.50' W. long.;

46°17.00' N. lat., 124°22.50' W. long.;

46°16.00' N. lat., 124°20.00' W. long.;

46°12.00' N. lat., 124°35.00' W. long.;

46°10.50' N. lat., 124°39.00' W. long.;

46°8.91' N. lat., 124°39.11' W. long.;

46°0.97' N. lat., 124°38.56' W. long.;

45°57.05' N. lat., 124°36.42' W. long.;

45°54.29' N. lat., 124°40.02' W. long.;

45°47.19' N. lat., 124°35.58' W. long.;

45°41.75' N. lat., 124°28.32' W. long.;

45°34.16' N lat., 124°24.24' W. long.,

45°27.10' N. lat., 124°21.74' W. long.,

45°17.15' N. lat.; 124°17.85' W. long.,

44°59.52' N. lat., 124°19.34' W. long.,

44°49.31' N. lat.; 124°29.97' W. long.,

44°45.64' N. lat., 124°33.89' W. long.;

44°33.00' N. lat., 124°36.88' W. long.;

44°28.21' N. lat., 124°44.72' W. long.;

44°13.17' N. lat., 124°56.36' W. long.;

43°56.34' N. lat., 124°55.74' W. long.;

43°56.47' N. lat., 124°34.61' W. long.;

43°42.73' N. lat., 124°32.41' W. long.;

43°30.93' N. lat., 124°34.43' W. long.;

43°17.45' N. lat., 124°41.16' W. long.;

43°7.04' N. lat., 124°41.25' W. long.;

43°3.45' N. lat., 124°44.36' W. long.;

43°3.90' N. lat., 124°50.81' W. long.;

42°55.70' N. lat., 124°52.79' W. long.;

42°54.12' N. lat., 124°47.36' W. long.;

42°44.00' N. lat., 124°42.38' W. long.;

42°38.23' N. lat., 124°41.25' W. long.;

42°33.03' N. lat., 124°42.38' W. long.;

42°31.90' N. lat., 124°42.04' W. long.;

42°30.09' N. lat., 124°42.67' W. long.;

42°28.28' N. lat., 124°47.08' W. long.;

42°25.22' N. lat., 124°43.51' W. long.;

42°19.23' N. lat., 124°37.92' W. long.;

42°16.29' N. lat., 124°36.11' W. long.;

42°5.66' N. lat., 124°34.92' W. long.;

42°0.00' N. lat., 124°35.27' W. long.;

42°0.16' N. lat., 124°34.70' W. long.;

41°47.04' N. lat., 124°27.65' W. long.;

41°32.92' N. lat., 124°28.79' W. long.;

41°10.12' N. lat., 124°20.50' W. long.;

40°51.37' N. lat., 124°23.39' W. long.;

40°40.73' N. lat., 124°30.37' W. long.;

40°36.05' N. lat., 124°37.09' W. long.;

40°32.64' N. lat., 124°38.48' W. long.;

40°23.30' N. lat., 124°31.60' W. long.;

40°23.93' N. lat., 124°28.05' W. long.;

40°21.99' N. lat., 124°24.01' W. long.;

40°21.10' N. lat., 124°27.87' W. long.;

40°18.67' N. lat., 124°25.99' W. long.;

40°19.05' N. lat., 124°22.53' W. long.;

40°15.02' N. lat., 124°25.76' W. long.;

40°16.55' N. lat., 124°34.01' W. long.; and

40°10.03' N. lat., 124°21.12' W. long.

The DBCA is defined along its western boundary by straight lines connecting all of the following points in the order stated:

48°15.00' N. lat., 125°42.50' W. long.;

48°13.00' N. lat., 125°39.00' W. long.;

48°8.50' N. lat., 125°45.00' W. long.;

48°6.00' N. lat., 125°46.50' W. long.;

48°3.50' N. lat., 125°37.00' W. long.;

48°1.50' N. lat., 125°40.00' W. long.;

47°57.00' N. lat., 125°37.00' W. long.;

47°55.50' N. lat., 125°28.50' W. long.;

47°58.00' N. lat., 125°25.00' W. long.;

48°0.50' N. lat., 125°24.50' W. long.;

48°3.50' N. lat., 125°21.00' W. long.;

48°2.00' N. lat., 125°19.50' W. long.;

48°0.00' N. lat., 125°21.00' W. long.;

47°58.00' N. lat., 125°20.00' W. long.;

47°58.00' N. lat., 125°18.00' W. long.;

47°52.00' N. lat., 125°16.50' W. long.;

47°49.00' N. lat., 125°11.00' W. long.;

47°46.00' N. lat., 125°6.00' W. long.;

47°44.50' N. lat., 125°7.50' W. long.;

47°42.00' N. lat., 125°6.00' W. long.;

47°38.00' N. lat., 125°7.00' W. long.;

47°30.00' N. lat., 125°0.00' W. long.;

47°28.00' N. lat., 124°58.50' W. long.;

47°23.00' N. lat., 124°51.00' W. long.;

47°17.00' N. lat., 124°53.00' W. long.;

47°15.00' N. lat., 125°0.00' W. long.;

47°8.00' N. lat., 124°59.00' W. long.;

47°1.00' N. lat., 125°0.00' W. long.;

46°55.00' N. lat., 125°2.00' W. long.;

46°51.00' N. lat., 124°57.00' W. long.;

46°41.00' N. lat., 124°51.00' W. long.;

46°34.00' N. lat., 124°38.00' W. long.;

46°30.50' N. lat., 124°41.00' W. long.;

46°33.00' N. lat., 124°32.00' W. long.;

46°29.00' N. lat., 124°32.00' W. long.;

46°20.00' N. lat., 124°39.00' W. long.;

46°16.00' N. lat., 124°37.00' W. long.;

46°15.50' N. lat., 124°27.00' W. long.;

46°13.17' N. lat., 124°37.87' W. long.;

46°13.17' N. lat., 124°38.75' W. long.;

46°10.50' N. lat., 124°42.00' W. long.;

46°6.21' N. lat., 124°41.85' W. long.;

46°3.02' N. lat., 124°50.28' W. long.;

45°57.00' N. lat., 124°45.52' W. long.;

45°43.44' N. lat., 124°46.03' W. long.;

45°35.82' N. lat., 124°45.72' W. long.;

45°35.70' N. lat., 124°42.89' W. long.;

45°24.45' N. lat., 124°38.21' W. long.;

45°11.68' N. lat., 124°39.38' W. long.;

44°57.94' N. lat., 124°37.02' W. long.;

44°44.28' N. lat., 124°50.79' W. long.;

44°32.63' N. lat., 124°54.21' W. long.;

44°23.20' N. lat., 124°49.87' W. long.;

44°13.18' N. lat., 124°58.81' W. long.;

43°57.92' N. lat., 124°58.29' W. long.;

43°50.12' N. lat., 124°53.36' W. long.;

43°49.53' N. lat., 124°43.96' W. long.;

43°42.76' N. lat., 124°41.40' W. long.;

43°24.00' N. lat., 124°42.61' W. long.;

43°19.74' N. lat., 124°45.12' W. long.;

43°19.63' N. lat., 124°52.95' W. long.;

43°17.41' N. lat., 124°53.02' W. long.;

42°49.15' N. lat., 124°54.93' W. long.;

42°46.74' N. lat., 124°53.39' W. long.;

42°43.76' N. lat., 124°51.64' W. long.;

42°45.41' N. lat., 124°49.35' W. long.;

42°43.92' N. lat., 124°45.92' W. long.;

42°38.87' N. lat., 124°43.38' W. long.;

42°34.78' N. lat., 124°46.56' W. long.;

42°31.47' N. lat., 124°46.89' W. long.;

42°31.00' N. lat., 124°44.28' W. long.;

42°29.22' N. lat., 124°46.93' W. long.;

42°28.39' N. lat., 124°49.94' W. long.;

42°26.28' N. lat., 124°47.60' W. long.;

42°19.58' N. lat., 124°43.21' W. long.;

42°13.75' N. lat., 124°40.06' W. long.;

42°5.12' N. lat., 124°39.06' W. long.;

41°59.99' N. lat., 124°37.72' W. long.;

41°59.33' N. lat., 124°37.68' W. long.;

41°47.93' N. lat., 124°31.79' W. long.;

41°21.35' N. lat., 124°30.35' W. long.;

41°7.11' N. lat., 124°25.25' W. long.;

41°7.12' N. lat., 124°25.05' W. long.;

40°57.37' N. lat., 124°30.25' W. long.;

40°41.03' N. lat., 124°33.21' W. long.;

40°33.70' N. lat., 124°42.50' W. long.;

40°22.72' N. lat., 124°32.06' W. long.;

40°16.97' N. lat., 124°31.51' W. long.;

40°18.68' N. lat., 124°50.44' W. long.; and

40°10.11' N. lat., 124°28.25' W. long.

The DBCA is closed to limited entry groundfish trawl fishing. Fishing with limited entry groundfish trawl gear is prohibited within the DBCA. It is unlawful to take and retain, possess, or land groundfish taken with limited entry groundfish trawl gear in the DBCA. Limited entry groundfish trawl vessels may transit through the DBCA, with or without groundfish on board, provided all groundfish trawl gear is stowed either: (1) below deck; or (2) if the gear cannot readily be moved, in a secured and covered manner, detached from all towing lines, so that it is rendered unusable for fishing. For the month of September 2002, all prohibitions that apply to the DBCA also apply to all waters inshore of the DBCA. These restrictions do not apply to Pacific whiting vessels using mid-water trawl gear to fish for their sector's primary whiting season allocation, as defined at 660.323(a)(3).

Dated: September 26, 2002.
William T. Hogarth,
Assistant Administrator for Fisheries, National Marine Fisheries Service.

[FR Doc. 02-25077 Filed 10-1-02; 8:45 am]

BILLING CODE 3510-22-S